ELECTION ASSISTANCE COMMISSION

Sunshine Act Notice

AGENCY: United States Election Assistance Commission.

ACTION: Notice of public meeting for EAC Board of Advisors.

Date and Time: Wednesday, December 12, 2007, 8:30 a.m.-5 p.m. and Thursday, December 13, 2007, 8:30 a.m.-5 p.m. and Friday, December 14, 2007, 8:30 a.m.-12 p.m.

Place: Omni Hotel Downtown, 700 San Jacinto Boulevard at 8th Street, Austin, TX 78701, Phone number (512) 476-3700.

Purpose: The U.S. Election Assistance Commission (EAC) Board of Advisors, as required by the Help America Vote Act of 2002, will meet to consider and receive presentations on the proposed next iteration of the Voluntary Voting System Guidelines (VVSG), as were submitted to EAC from the commission's Technical Guidelines Development Committee (TGDC). The Board of Advisors will formulate recommendations to EAC regarding the guidelines and consider other administrative matters. The EAC Standards Board will meet at the same time and some of the Board of Advisors sessions will be held jointly with the Standards Board.

This meeting will be open to the public.

FOR FURTHER INFORMATION CONTACT: Bryan Whitener, Telephone: (202) 566-3100.

Thomas R. Wilkey,
Executive Director, U.S. Election Assistance Commission.

[FR Doc. 07-5636 Filed 11-7-07; 4:24 pm]

BILLING CODE 6820-KF-M